DEPARTMENT OF THE INTERIOR

National Park Service

[NPS-WASO-NAGPRA-NPS0030389; PPWOCRADN0-PCU00RP14.R50000]

Notice of Inventory Completion: U.S. Department of Defense, Army Corps of Engineers, Nashville District, Nashville, TN; Correction

AGENCY: National Park Service, Interior.

ACTION: Notice; correction.

SUMMARY: The U.S. Army Corps of Engineers, Nashville District (USACE), has corrected an inventory of human remains and associated funerary objects, published in a Notice of Inventory Completion in the Federal Register on July 19, 2017. This notice corrects the number of associated funerary objects.

ADDRESSES: Dr. Valerie McCormack, Archeologist, Department of Defense, Nashville District, Corps of Engineers, U.S. Army Corps of Engineers, Nashville District, 110 9th Avenue South, Room A-405, Nashville, TN 37203, telephone (615) 736-7847, email Valerie.j.mccormack@usace.army.mil.

SUPPLEMENTARY INFORMATION: Notice is here given in accordance with the Native American Graves Protection and Repatriation Act (NAGPRA), 25 U.S.C. 3003, of the correction of an inventory of human remains and associated funerary objects under the control of the U.S. Army Corps of Engineers, Nashville District, Nashville, TN. The human remains and associated funerary objects were removed from Stewart County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (82 FR 33155-33156, July 19, 2017). During a re-inventory of the collection, an additional 11 associated funerary objects from site 40SW23 were located.

Correction

In the Federal Register (82 FR 33155, July 19, 2017), column 2, paragraph 3, sentence 9 is corrected by substituting the following sentence:

The 11 associated funerary objects are limestone slabs from a stone box grave.

In the Federal Register (82 FR 33156, July 19, 2017), column 1, paragraph 3, sentence 3 is corrected by substituting the following sentence:

Pursuant to 25 U.S.C. 3001(3)(A), the 142 objects described in this notice are reasonably believed to have been placed with or near individual human remains at the time of death or later as part of the death rite or ceremony.

Additional Requestors and Disposition

For questions related to this notice, contact Dr. Valerie McCormack, Archeologist, Department of Defense, Nashville District, Corps of Engineers, U.S. Army Corps of Engineers, Nashville District, 110 9th Avenue South, Room A-405, Nashville, TN 37203, telephone (615) 736-7847, email Valerie.j.mccormack@usace.army.mil.

The U.S. Army Corps of Engineers, Nashville District, is responsible for notifying the Cherokee Nation, Eastern Band of the Cherokee Indians, and the United Keetoowah Band of the Cherokee Indians in Oklahoma that this notice has been published.

Dated: May 27, 2020.
Melanie O'Brien,
Manager, National NAGPRA Program.

[FR Doc. 2020-14396 Filed 7-2-20; 8:45 am]

BILLING CODE 4312-52-P